DEPARTMENT OF ENERGY

Federal Energy Regulatory Commission

Notice of Draft License Application and Preliminary Draft Environmental Assessment (PDEA) and Request for Preliminary Terms and Conditions

March 28, 2002.

Take notice that the following hydroelectric application has been filed with the Commission and is available for public inspection:

a. Type of Application: Draft—New License.

b. Project No.: 201-013.

c. Applicant: Petersburg Municipal Power and Light (Petersburg).

d. Name of Project: Blind Slough Hydroelectic Project.

e. Location: On Crystal Creek, Mitkof Island, near the City of Petersburg, Alaska.

f. Applicant Contacts: Dennis C. Lewis, Superintendent, Petersburg Municipal Power and Light, P.O. Box 329, 11 South Nordic, Petersburg, Alaska 99833, 907-772-4203, email: pmpl@alaska.net; and Nan A. Nalder, Relicensing Manager, Acres International, 150 Nickerson St., Suite 310, Seattle, WA 98109, 206-352-5730 email: acresnan@serv.net.

g. FERC Contact: Vince Yearick, FERC, 888 First Street, NE, Room 61-11, Washington, DC 20426, (202) 219-3073, email: vince.yearick@ferc.gov.

h. Petersburg distributed, to interested parties and Commission staff, the PDEA and draft application on March 18, 2002.

i. With this notice we are soliciting preliminary terms, conditions, and recommendations on the PDEA and draft license application. All comments on the PDEA and draft license application should be sent to the applicant contact address above in item (f) with an optional copy sent to Commission staff at the address above in item (g). For those wishing to file comments with the Commission, an original and eight copies must be filed at the following address: Secretary, Federal Energy Regulatory Commission, 888 First St. NE., Washington, DC 20426. All comments should include the project name and number, and bear the heading “Preliminary Comments,” Preliminary Recommendations,” “Preliminary Terms and Conditions,” or “Preliminary Prescriptions.” Comments and preliminary recommendations, terms and conditions, and prescriptions may be filed electronically via the Internet in lieu of paper. See 18 CFR 385.2001(a)(1)(iii) and the instructions on the Commission's web site (http://www.ferc.gov) under the “e-Filing” link.

j. Comment deadline: Any party interested in commenting must do so before May 28, 2002.

k. Locations of the application: A copy of the draft application and PDEA are on file with the Commission and are available for public inspection. This filing may also be viewed on the web at http://www.ferc.gov using the “RIMS” link—select “Docket #” and follow the instructions (call 202-208-2222 for assistance). Copies are also available for inspection and reproduction at the Petersburg, Alaska address in item f above.

Linwood A. Watson, Jr.,
Deputy Secretary.

[FR Doc. 02-8000 Filed 3-29-02; 8:45 am]

BILLING CODE 6717-01-P